ENVIRONMENTAL PROTECTION AGENCY

[FRL-6703-7]

SES Performance Review Board; Membership

AGENCY: Environmental Protection Agency (EPA).

ACTION: Notice.

SUMMARY: Notice is hereby given of the membership of the EPA Performance Review Board.

Dates: May 22, 2000.

FOR FURTHER INFORMATION CONTACT: Karen Stinson, Executive Resources and Special Programs, 3650, Office of Human Resources and Organizational Services, Office of Administration and Resources Management, Environmental Protection Agency, 1200 Pennsylvania Avenue, N.W., Washington, DC 20460 (202) 260-1373.

SUPPLEMENTARY INFORMATION: Section 4314 (c) (1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the EPA Performance Review Board are:

Lynda F. Carroll (Chair), Assistant Regional Administrator, Region 6

Joseph L. Dillon, Acting Comptroller, Office of the Chief Financial Officer

Joan Fidler, Director, Office of Management Operations, Office of International Activities

Ann E. Goode (Ex-Officio), Director, Office of Civil Rights, Office of the Administrator

Geoffrey H. Grubbs, Director, Office of Science and Technology, Office of Water

Clarence Hardy, Director, Office of Cooperative Environmental Management, Office of the Administrator

Walter W. Kovalick, Jr., Director, Technology Innovation Office, Office of Solid Waste and Emergency Response

Richard L. Lemley, Director, Facilities and Support Division, Office of Administration and Resources Management

Henry L. Longest II, Deputy Assistant Administrator for Management, Office of Research and Development

Hugh W. McKinnon (Outgoing Chair), Associate Director for Health (NRMRL), Office of Research and Development

Brian J. McLean, Director, Clean Air Markets, Office of Air and Radiation

Linda M. Murphy, Director, Office of Ecosystem Protection, Region 1

James O. Rauch, Assistant Inspector General for Audits, Office of the Inspector General

Eric V. Schaeffer, Director, Office of Regulatory Enforcement, Office of Enforcement and Compliance Assurance

Keith A. Takata, Director, Superfund Division, Region 9

Linda A. Travers, Deputy Director, Office of Technology Operations and Planning, Office of Environmental Information

Marylouise M. Uhlig, Director, Office of Program Management Operations, Office of Prevention, Pesticides and Toxic Substances

Russell L. Wright, Director, Science and Ecosystem Support Division, Region 4

Daiva Balkus (Acting Executive Secretary) Acting Director, Office of Human Resources and Organizational Services, Office of Administration and Resources Management

Members of the Inspector General Subcommittee to the EPA Performance Review Board are:

Raymond J. DeCarli, Assistant Inspector General for Audits, Department of Transportation

James E. Henderson, Assistant Inspector General for Investigations, General Services Administration

Richard L. Skinner, Deputy Inspector General, Federal Emergency Management Agency

Dated: May 11, 2000.
David J. O'Connor,
Acting Assistant Administrator for Administration and Resources, Management.

[FR Doc. 00-12791 Filed 5-19-00; 8:45 am]

BILLING CODE 6560-50-P